SECURITIES AND EXCHANGE COMMISSION

Submission for OMB Review; Comment Request

Upon Written Request; Copies Available From: Securities and Exchange Commission, Office of Filings and Information Services, Washington, DC 20549.

Extension:

Regulations 13D and 13G; Schedules 13D and 13G, SEC File No. 270-137, OMB Control No. 3235-0145.

Form F-6, SEC File No. 270-270, OMB Control No. 3235-0292.

Notice is hereby given that, pursuant to the Paperwork Reduction Act of 1995(44 U.S.C. 3501 et seq.), the Securities and Exchange Commission (“Commission”) has submitted to the Office of Management and Budget requests for extension of the previously approved collections of information discussed below.

Schedules 13D and 13G are filed pursuant to sections 13(d) and 13(g) of the Securities Exchange Act of 1934 (“Exchange Act”) and Regulation 13D and 13G thereunder are intended to report beneficial ownership of equity securities registered under Section 12 of the Exchange Act. Regulations 13D and 13G are intended to provide investors and the subject issuers with information about accumulations of securities that may have the potential to change or influence control of the issuer. Schedule 13G and Schedule 13D are used by persons including small entities to report their ownership of more than 5% of a class of equity securities registered under Section 12. Schedule 13D takes approximately 43,500 total burden hours and is filed by 3,000 respondents. The filer prepares 25% of the 43,500 annual burden hours for a total reporting burden of 10,875 hours. Schedule 13G takes approximately 98,800 total burden hours and is filed by 9,500 respondents. The filer prepares 25% of the 98,800 annual burden hours for a total reporting burden of 24,700 hours. Therefore, the reporting burden for both Schedules is 35,575 and they are prepared by a total of 12,500 respondents. Respondents file either Schedule 13D or Schedule 13G only when necessary.

The information provided by respondents is mandatory. All information provided to the Commission is public. However, Rules 0-6 and 24b-2 under the Exchange Act permits reporting persons to request confidential treatment for certain sensitive information concerning national security, trade secrets, or privileged commercial or financial information.

The Commission under section 19 of the Securities Act of 1933 established Form F-6 for registration of American Depositary Receipts (ADRs) of foreign companies. Form F-6 requires disclosure of information regarding the terms of depository bank, fees charged, and a description of the ADRs. No special information regarding the foreign company is required to be prepared or disclosed, although the foreign company must be one, which periodically furnishes information to the Commission. Such information is available to the public for inspection. The information is needed to ensure that investors in ADRs have full disclosure of information concerning the deposit agreement and foreign company. Approximately 150 respondents file Form F-6 and it take .9 hours to prepare for a total of 135 annual burden hours. It is estimated that 25% of the 135 total burden hours (33.75 hours) is prepared by the company. The information provided on Form F-6 is mandatory to best ensure full disclosure of ADRs being issued in the U.S. All information provided to the Commission is available for public review upon request.

An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington DC 20549. Comments must be submitted to OMB within 30 days of this notice.

Dated: October 3, 2002.
Margaret H. McFarland,
Deputy Secretary.

[FR Doc. 02-26020 Filed 10-10-02; 8:45 am]

BILLING CODE 8010-01-P